DEPARTMENT OF ENERGY

Federal Energy Regulatory Commission

[Docket Nos. CP05-83-000, CP05-84-000, CP05-85-000, and CP05-86-000]

Port Arthur LNG, L.P. and Port Arthur Pipeline, L.P.; Notice of Applications

March 10, 2005.

Take notice that on February 28, 2005, Port Arthur LNG, L.P. (Port Arthur LNG) filed an application in Docket No. CP05-83-000 seeking authorization to site, construct and operate a liquefied natural gas (LNG) terminal and associated facilities to import and deliver up to 1.5 Bcf per day of natural gas during Phase I, increasing to 3.0 Bcf per day during Phase II. The terminal and associated facilities will be located in the City of Port Arthur, Texas and in Jefferson County, Texas. The LNG terminal will provide LNG tanker terminal services to third party shippers who would be importing LNG from foreign sources. Port Arthur LNG made the request to site, construct and operate the LNG terminal pursuant to section 3(a) of the Natural Gas Act and Part 153 of the Commission's regulations.

Also, take notice that on February 28, 2005, Port Arthur Pipeline, L.P. (Port Arthur Pipeline) filed in Docket No. CP05-84-000, an application seeking a certificate of public convenience and necessity, pursuant to section 7(c) of the NGA and Part 157, Subpart A of the Commission's regulations, to construct and operate a 70-mile pipeline leg and a 3-mile pipeline leg and related facilities to transport natural gas on an open access basis. In Docket No. CP05-85-000, Port Arthur Pipeline requests a blanket certificate under section 7(c) of the NGA and Part 157, Subpart F of the Commission's regulations to perform routine activities in connection with the future construction, operation and maintenance of the proposed pipeline. Finally, Port Arthur Pipeline requests authorization in Docket No. CP05-86-000 to provide the natural gas transportation services on a firm and interruptible basis pursuant to section 7(c) of the NGA and Part 284 of the Commission's regulations.

These applications are on file with the Commission and open to public inspection. These filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

In Docket No. PF04-11-000, Port Arthur LNG and Port Arthur Pipeline participated in a pre-filing National Environmental Policy Act review of the proposed project to identify and resolve potential landowner and environmental problems before the applications were filed.

Any initial questions regarding these applications should be directed to Georgetta J. Baker, Sempara Energy , 101 Ash Street, HQ13D, San Diego, California 92101, Phone: (619) 699-5064, Fax: (619) 699-5027 or gbaker@sempra.com or Stacy Van Goor, Sempra Energy, 101 Ash Street, HQ8, San Diego, California 92101, Phone: (619) 696-2264, Fax: (619) 696-2500 or svangoor@sempraglobal.com.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commentors will be placed on the Commission's environmental mailing list, will receive copies of the environmental documents, and will be notified of meetings associated with the Commission's environmental review process. Environmental commentors will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the internet in lieu of paper. See, 18 CFR 385.2001(a)(1)(iii) and the instructions on the Commission's Web site under the “e-Filing” link.

Comment Date: March 31, 2005.

Magalie R. Salas,
Secretary.

[FR Doc. E5-1146 Filed 3-15-05; 8:45 am]

BILLING CODE 6717-01-P